ENVIRONMENTAL PROTECTION AGENCY

[EPA-R01-OW-2006-0435; FRL-8177-6]

Massachusetts Marine Sanitation Device Standard—Receipt of Petition

AGENCY: Environmental Protection Agency (EPA).

ACTION: Notice—Receipt of Petition.

SUMMARY: Notice is hereby given that a petition has been received from the Commonwealth of Massachusetts requesting a determination by the Regional Administrator, U.S. Environmental Protection Agency, that adequate facilities for the safe and sanitary removal and treatment of sewage from all vessels are reasonably available for the waters of Plymouth Bay, Plymouth Harbor, Kingston Bay, and Duxbury Bay; their respective coastlines and coastal tidal rivers.

DATES: Comments must be received on or before July 3, 2006.

ADDRESSES: Submit your comments, identified by Docket ID No. EPA-R01-OW-2006-0435 by one of the following methods:

• http://www.regulations.gov: Follow the on-line instructions for submitting comments.

• E-mail: rodney.ann@epa.gov.

• Fax: (617) 918-0538.

• Mail and hand delivery: U.S. Environmental Protection Agency—New England Region, One Congress Street, Suite 1100, mail code-COP, Boston, MA 02114-2023. Deliveries are only accepted during the Regional Office's normal hours of operation (8 a.m.-5 p.m., Monday through Friday, excluding legal holidays), and special arrangements should be made for deliveries of boxed information.

Instructions: Direct your comments to Docket ID No. EPA-R01-OW-2006-0435 EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov, or e-mail. The http://www.regulations.gov Web site is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the http://www.regulations.gov index. Although listed in the index, some information is not publicly available, e.g., CBI or other information whose disclosure is restricted by statute. Certain other material, such as copy-righted material, will be publicly available only in hard copy. Publicly available docket materials are available either electronically in http://www.regulations.gov or in hard copy at the U.S. Environmental Protection Agency—New England Region, One Congress Street, Suite 1100, mail code-COP, Boston, MA 02114-2023. Such deliveries are only accepted during the Regional Office's normal hours of operation, and special arrangements should be made for deliveries of boxed information. The Regional Office's are open from 8 a.m.-5 p.m., Monday through Friday, excluding legal holidays. The telephone number is (617) 918-1538.

FOR FURTHER INFORMATION CONTACT: Ann Rodney, U.S. Environmental Protection Agency—New England Region, One Congress Street, Suite 1100, mail code-COP, Boston, MA 02114-2023. Telephone: (617) 918-1538, fax number: (617) 918-0538; e-mail address: rodney.ann@epa.gov.

SUPPLEMENTARY INFORMATION: Notice is hereby given that a petition has been received from the Commonwealth of Massachusetts requesting a determination by the Regional Administrator, U.S. Environmental Protection Agency, pursuant to section 312(f)(3) of Public Law 92-500 as amended by Public Law 95-217 and Public Law 100-4, that adequate facilities for the safe and sanitary removal and treatment of sewage from all vessels are reasonably available for all waters of Plymouth Bay, Plymouth Harbor, Kingston Bay, and Duxbury Bay; their respective coastlines and coastal tidal rivers within the following boundaries:

Waterbody/general area | Latitude | Longitude
North to include the northernmost reaches of the Back River | 42°04′06″ N | 70°39′12″ W
West to Kingston-Route 3A bridge over the Jones River | 41°59′48″ N | 70°44′30″ W
South to Plymouth-Route 3A bridge over the Eel River and southernmost waters of Warren Cove | 41°56′51″ N | 70°37′55″ W
Duxbury municipal boundary | 42°04′22″ N | 70°38′55″ W
East to navigational marker N “8” located off Howland Ledge | 42°04′36″ N | 70°36′48″ W
South to navigational marker RW “GP” Bell located east of Gurnet Point | 41°59′57″ N | 70°35′03″ W
South to navigation Marker R “12” Whistle located off Mary Ann Rocks | 41°55′07″ N | 70°33′22″ W
South to navigation marker RW “CC” Bell located off the Cape Cod Canal | 41°48′52″ N | 70°27′38″ W
West to Plymouth municipal boundary. | 41°48′38″ N | 70°32′13″ W

The delineation places the eastern boundary 9,900 feet seaward of Duxbury Beach at the public parking area; 4,775 feet seaward of Gurnet Point; 6,775 feet seaward of Manomet Point; and 15,000 feet seaward of Peaked Cliff.

The proposed NDA is boarded by the town of Marshfield to the north and the town of Bourne to the south.

Massachusetts has certified that there are six pumpout facilities at four locations within the proposed area available to the boating public. A list of the facilities, phone numbers, locations, and hours of operation is appended at the end of this petition. Brewer's Plymouth Marine has a shore-side facility which connects directly to the municipal sewer system. The town of Plymouth operates a pumpout boat and shoreside facility. The shore-side facility serves three individual hose stands and has the ability to service two vessels simultaneously. The shore-side facility connects directly to the municipal sewer system. The town of Duxbury operates a pumpout boat and shore side facility and waste is removed by a licensed hauler. The town of Kingston operates a pumpout boat and the waste is removed by a licensed hauler.

Massachusetts has provided documentation indicating that the total vessel population is estimated to be 2885 in the proposed area. Of these, approximately 1403 are identified as resident recreational vessels, 123 are identified as resident commercial, and 1359 are identified as transient vessels. It is estimated that 1340 of the total vessel population may have a Marine Sanitation Device (MSD) of some type. These figures are conservative because Massachusetts calculates the percentage of vessels having MSDs using region-specific estimates.

There are three primary boat ramps within the proposed NDA. In addition, there are two primary beaches, Long Beach and Duxbury beach, as well as 14 smaller beaches in the proposed area. The Ellisville Harbor Area of Critical Environmental Concern (ACEC) is also located within the proposed area.

The area is used by both recreational and commercial shell fishermen. The total growing area for shellfish in the proposed area is approximately 65,000 acres of productive use, supporting soft shell clams, surf clams, razor clams, quahogs, bay scallops, and blue mussels. The town of Plymouth supports a thriving commercial fishing fleet. Species of commercial and recreational interest include alewife, cod, blueback herring, smelt, striped bass, and winter flounder, among others. The proposed area has a variety of rich natural habitats, and supports a wide diversity of species. The federally listed species include the bald eagle, shortnose sturgeon, piping plover, and puritan tiger beetle as well as dozens of state designated rare and endangered species.

List of Pumpouts in the Proposed Area

Name | Location | Contact information | Hours of operation (call ahead to verify) | Mean low water depth | Fee
Brewer's Marine | Plymouth Harbor | VHF 9, 72, 508-746-4500, bpm@bby.com | April 1-Dec. 15; 7 a.m.-5 p.m | 9 feet | None.
Plymouth Harbormaster Pumpout Boat | Plymouth Harbor and Town Pier | VHF 9, 16, 508-830-4182 | May 1-Nov. 1; Pumpout boat, Daily 10 a.m.-6 p.m | N/A | None.
Plymouth Shore Side Pumpout at Town Pier | Plymouth Harbor and Town Pier | VHF 9, 508-830-4182 | May 1-Nov. 1; Self-Serve 24 hrs | 8 feet | None.
Duxbury Harbormaster Pumpout Boat | Snug Harbor | VHF 16, 781-934-2866 | May 1-Nov.; Spring 9 a.m.-5 p.m.; Summer 7 a.m.-7 p.m.; Fall 9 a.m.-5 p.m | N/A | None.
Duxbury Shore Side Pumpout | Duxbury Town Pier | VHF 16, 781-934-2866 | May 1-Nov.; Spring 9 a.m.-5 p.m.; Summer 7 a.m.-7 p.m.; Fall 9 a.m.-5 p.m | 6 feet | None.
Kingston Harbormaster | Town Landing | VHF 9, 781-585-0519 | Apr. 1-Nov. 1; 8 a.m.-4 p.m | 3 feet | None.

Dated: May 20, 2006.
Robert W. Varney,
Regional Administrator, Region 1.

[FR Doc. E6-8469 Filed 5-31-06; 8:45 am]

BILLING CODE 6560-50-P